FEDERAL COMMUNICATIONS COMMISSION

[DA 00-912]

Year 2000 Deadline for Compliance With Commission's Regulations Regarding Human Exposure to Radiofrequency Emissions

AGENCY: Federal Communications Commission.

ACTION: Notice.

SUMMARY: The Commission released a document on April 27, 2000, that reminds all of the Commission's licensees and grantees of the impending deadline for ensuring compliance with provisions of the Commission's rules. It is the responsibility of the licensee or grantee to either take action to bring the facility, operation or device into compliance or file an Environmental Assessment (EA) with the Commission no later than September 1, 2000. After September 1, 2000, if any facility, operation or device is found not to be in compliance with the Commission's RF exposure guidelines, and if the required EA has not been filed, the Commission will consider this to be a violation of its rules resulting in possible fines, forfeiture or other actions deemed appropriate by the Commission.

FOR FURTHER INFORMATION CONTACT: Robert Cleveland, Office of Engineering and Technology, (202) 418-2422.

SUPPLEMENTARY INFORMATION: This is a summary of the text of the Public Notice, DA 00-912, released April 27, 2000. The document is available for inspection and copying during normal business hours in the FCC Reference Information Center, Room CY-A257, 445 12th Street, SW, Washington, DC, and also may be purchased from the Commission's duplication contractor, International Transcription Service, (202) 857-3800, 1231 20th Street, NW Washington, DC 20036.

Summary of Public Notice

1. On August 25, 1997, the Commission adopted the second of two Orders finalizing its rules regarding compliance with safety limits for human exposure to radiofrequency (RF) emissions, 62 FR 47960, September 12, 1997. The effective dates for implementation of the revised rules were August 1, 1996, for devices subject to equipment authorization, such as cellular and PCS telephones, and October 15, 1997, for other transmitting facilities and operations (except the Amateur Radio Service for which the effective date was January 1, 1998). For devices, facilities and operations authorized or licensed by the Commission prior to the appropriate effective date, the following provision was adopted in reference to 47 CFR 1.1307(b)(1) through 1.1307(b)(3): “All existing transmitting facilities, operations and devices regulated by the Commission must be in compliance with the requirements of paragraphs (b)(1) through (b)(3) of this section by September 1, 2000, or, if not in compliance, file an Environmental Assessment as specified in § § 1.1307(b)(5) and 1.1311.” If such an Environmental Assessment (“EA”) is required, the obligation to file it would fall upon the licensee presently holding the permit or license to transmit, or the party presently holding the grant of equipment authorization.

2. An EA is a formal document required by the National Environmental Policy Act whenever an action may have a significant environmental impact. Section 1.1311 of the Commission's rules, 47 CFR 1.1311, explains what information must be included in an EA. The Commission's rules require that EAs accompany applications for licenses, renewals or other Commission actions when there is evidence of environmental impact for a variety of categories. An EA would be considered by the Commission to determine whether the environmental impact described is significant and whether further action is needed to minimize or eliminate the environmental effect. Filing procedures for EAs may vary depending on the specific authorizing bureau or office. Information on specific filing procedures can be obtained at the appropriate Web site address or phone number found at the end of this notice. With respect to antennas located on fixed structures, filers of EAs should be aware that non-RF environmental issues must be addressed in any EA filed with the Commission in accordance with the requirements of § 1.1311 and the Commission's environmental rules in § § 1.1301 thorugh 1.1319.

3. The purpose of this Public Notice is to remind all of the Commission's licensees and grantees of the impending September 1 deadline for ensuring compliance with these provisions of its rules. Therefore, if an existing facility, operation or device of a licensee or grantee is not in compliance with the provisions of 47 CFR 1.1307(b)(1) through (b)(3), it is the responsibility of the licensee or grantee to either take action to bring the facility, operation or device into compliance or file an EA with the Commission no later than September 1, 2000. After September 1, 2000, if any facility, operation or device is found not to be in compliance with the Commission's RF exposure guidelines, and if the required EA has not been filed, the Commission will consider this to be a violation of its rules resulting in possible fines, forfeiture or other actions deemed appropriate by the Commission. With respect to antennas located on fixed structures, it is the responsibility of the respective licensees, not tower owners, to undertake an environmental evaluation and file EAs, if required, due to non-compliance with our RF rules.

4. It is important to note that the Commission's RF exposure rules apply to all facilities, operations and devices regulated by the Commission. While a given facility, operation or device might be categorically excluded from routine evaluation for RF exposure by § 1.1307(b)(1) of our rules, it must still comply with the FCC's exposure guidelines.

5. Consumers should be aware that hand-held cellular and PCS telephones that were authorized by the FCC after the August 1, 1996, effective date have been evaluated for compliance with FCC guidelines for safe exposure. Furthermore, PCS devices subject to equipment authorization have been required to comply with our RF guidelines since 1994. This means that a large number, if not the majority, of cellular and PCS telephones now in use in the United States have already been evaluated for compliance with the FCC's RF exposure limits. To the extent that a wireless handset received an FCC authorization prior to the August 1, 1996, effective date, and is still being produced and marketed, manufacturers of such handsets will be required to file EAs if the handset in question is not in compliance with the FCC's RF guidelines.

6. Further information on the Commission's RF exposure rules and on evaluating compliance with FCC RF guidelines may be found at the Commission's RF Safety Web page: www.fcc.gov/oet/rfsafety. In particular, the Office of Engineering and Technology's OET Bulletin 65 and supplements to this bulletin (all available at the Web Site for viewing and downloading) offer detailed guidance on evaluating compliance. Requests for information or copies of these documents can also be directed to the FCC's RF Safety Program in the Office of Engineering and Technology, (202) 418-2464 or by e-mail to: rfsafety@fcc.gov.

7. For information on specific filing procedures for EAs, licensees and grantees should consult the following Web Sites or contact the appropriate FCC office or bureau:

• Wireless Telecommunications Bureau: www.fcc.gov/wtb; Irene Griffith: (202) 418-1315.

• Mass Media Bureau: www.fcc.gov/mmb; FM (Brian Butler): (202) 418-2700;

• AM (Joseph Szczesny): (202) 418-2700; TV (John Morgan): (202) 418-1600.

• International Bureau: www.fcc.gov/ib; (202) 418-2222.

• Office of Engineering and Technology: www.fcc.gov/oet; (202) 418-2464.

Federal Communications Commission.
Magalie Roman Salas,
Secretary.

[FR Doc. 00-11237 Filed 5-4-00; 8:45 am]

BILLING CODE 6712-01-P